DEPARTMENT OF COMMERCE

International Trade Administration

[A-427-814]

Notice of Extension of Time Limit for Preliminary Results of Antidumping Duty Administrative Review: Stainless Steel Sheet and Strip in Coils From France

AGENCY: Import Administration, International Trade Administration, Department of Commerce.

EFFECTIVE DATE: March 7, 2005.

FOR FURTHER INFORMATION CONTACT: Sebastian Wright or Sean Carey, AD/CVD Operations, Office 6, Import Administration, International Trade Administration, U.S. Department of Commerce, 14th Street and Constitution Avenue, NW., Washington, DC 20230; telephone: (202) 482-5254 and (202) 482-3964, respectively.

Background

The Department of Commerce (the Department) published an antidumping duty order on stainless steel sheet and strip in coils from France on July 27, 1999 (see Amended Final Determination of Sales at Less Than Fair Value and Antidumping Order, 64 FR 40562 (July 27, 1999)). On July 30, 2004, Ugine & ALZ France, S.A., a French producer of subject merchandise and petitioners (Allegheny Ludlum Corporation, AK Steel, Inc., North American Stainless, United Steelworkers of America, AFL-CIO/CLC, Butler Armco Independent Union and Zanesville Armco Independent Organization), requested that the Department conduct an administrative review. On August 30, 2004, the Department published a notice of initiation of an administrative review of the antidumping duty order on subject merchandise, for the period July 1, 2003, through June 30, 2004 (see Initiation of Antidumping and Countervailing Duty Administrative Reviews and Request for Revocation in Part, 69 FR 52857 (August 30, 2004)). The preliminary results of this administrative review are currently due no later than April 2, 2005.

Extension of Time Limit for Preliminary Results

Pursuant to section 751(a)(3)(A) of the Tariff Act of 1930 (the Act), the Department shall issue preliminary results in an administrative review of an antidumping duty order within 245 days after the last day of the anniversary month of the date of publication of the order. The Act further provides, however, that the Department may extend the deadline for completion of the preliminary results of a review from 245 days to 365 days if it determines that it is not practicable to complete the preliminary results within the 245-day period. See section 751(a)(3)(A) of the Act. Due to the complexity of issues present in this administrative review, such as home market sales to affiliated parties and complicated cost accounting issues, the Department has determined that it is not practicable to complete this review within the original time period.

Section 751(a)(3)(A) of the Act and section 351.213(h)(2) of the Department's regulations allow the Department to extend the deadline for the preliminary results to a maximum of 365 days from the last day of the anniversary month of the order. For the reasons noted above, we are extending the time for the completion of preliminary results until no later than August 1, 2005, which is the next business day after 365 days from the last day of the anniversary month of the date of publication of the order. The deadline for the final results of this administrative review continues to be 120 days after the publication of the preliminary results.

This notice is issued and published in accordance with section 751(a)(3)(A) of the Act.

Dated: February 28, 2005.
Barbara E. Tillman,
Acting Deputy Assistant Secretary for Import Administration.

[FR Doc. E5-921 Filed 3-4-05; 8:45 am]

BILLING CODE 3510-DS-P